DEPARTMENT OF COMMERCE

International Trade Administration

[C-580-884]

Certain Hot-Rolled Steel Flat Products From the Republic of Korea: Notice of Court Decision Not in Harmony With the Results of Countervailing Duty Administrative Review; Notice of Amended Final Results

AGENCY: Enforcement and Compliance, International Trade Administration, Department of Commerce.

SUMMARY: On August 21, 2023, the U.S. Court of International Trade (CIT) issued its final judgment in Hyundai Steel Company v. United States, Court No. 21-00536, sustaining the U.S. Department of Commerce (Commerce)'s remand results pertaining to the administrative review of the countervailing duty (CVD) order on certain hot-rolled steel flat products (HRS) from the Republic of Korea (Korea) covering the period January 1, 2018, through December 31, 2018. Commerce is notifying the public that the CIT's final judgement is not in harmony with Commerce's final results of the administrative review, and that Commerce is amending the final results with respect to the countervailable subsidy rate assigned to Hyundai Steel Company (Hyundai Steel).

DATES: Applicable August 31, 2023.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On August 26, 2021, Commerce published its Final Results of the 2018 CVD administrative review of HRS from Korea.¹ Commerce determined that Hyundai Steel received countervailable subsidies from the Government of Korea (GOK) under various programs, including the Reduction for Sewerage Fees program and the Provision of Port Usage Rights at the Port of Incheon program.² With respect to the sewerage fees program, we found that Hyundai Steel's reduced sewerage bill reflected revenue forgone, and we calculated a 0.01 percent ad valorem subsidy rate for the program.³ With respect to the Port of Incheon program, we found that Hyundai Steel received a financial contribution in the form of revenue forgone, because the GOK gave Hyundai Steel the right to collect berthing income and harbor facility usage fees which otherwise would have been collected by the GOK.⁴

¹ See Certain Hot-Rolled Steel Flat Products from the Republic of Korea: Final Results of Countervailing Duty Administrative Review; 2018, 86 FR 47621 (August 26, 2021) (Final Results), and accompanying Issues and Decision Memorandum (IDM).

² See Final Results IDM at Comments 2 and 3.

³ Id. at 7 and Comment 3.

⁴ Id. at 7 and Comment 2.

Hyundai Steel appealed Commerce's Final Results. On February 10, 2023, the CIT remanded Commerce's determination that the Port of Incheon program conferred a benefit; the CIT also, at Commerce's request, remanded Commerce's determination related to the sewerage fees program.⁵

⁵ See Hyundai Steel Company v. United States, Court No. 21-00536, Slip Op. 23-15 (CIT 2023).

In its final remand redetermination, issued in April 2023, Commerce reexamined the Reduction for Sewerage Fees program and determined that the program was not countervailable. We also provided further explanation for our determination that the Port of Incheon program should be analyzed as a revenue forgone subsidy program and that it conferred a benefit. We adjusted the final subsidy rate calculation from the previous rate of 0.51 percent for Hyundai Steel to a new subsidy rate of 0.50 percent.⁶ The CIT sustained Commerce's final results of redetermination.⁷

⁶ See Final Results of Redetermination Pursuant to Court Remand, Hyundai Steel Company v. United States, Court No. 21-00536, Slip Op. 23-15 (CIT February 10, 2023), dated April 7, 2023, available at https://access.trade.gov/resources/remands/23-15.pdf.

⁷ See Hyundai Steel Company v. United States, Court No. 21-00536, Slip. Op. 23-121, at 13.

Timken Notice

In its decision in Timken,⁸ as clarified by Diamond Sawblades,⁹ the U.S. Court of Appeals for the Federal Circuit held that, pursuant to sections 516A(c) and (e) of the Tariff Act of 1930, as amended (the Act), Commerce must publish a notice of court decision that is not “in harmony” with a Commerce determination and must suspend liquidation of entries pending a “conclusive” court decision. The CIT's August 21, 2023, judgment constitutes a final decision of the CIT that is not in harmony with Commerce's Final Results. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Results

Because there is now a final court judgment, Commerce is amending its Final Results with respect to the subsidy rate assigned to Hyundai Steel as follows:

Company | Subsidy rate (percent ad valorem)
Hyundai Steel Company ¹⁰ | 0.50

Cash Deposit Requirements

Because Hyundai Steel has a superseding cash deposit rate, i.e., there have been final results published in a subsequent administrative review, we will not issue revised cash deposit instructions to U.S. Customs and Border Protection (CBP). This notice will not affect the current cash deposit rate for Hyundai Steel.

¹⁰ This company is also known as Hyundai Steel Co., Ltd.

Liquidation of Suspended Entries

At this time, Commerce remains enjoined by CIT order from liquidating entries that: were produced and/or exported by Hyundai Steel Co., Ltd., (a/k/a Hyundai Steel Company or Hyundai Steel), and were entered, or withdrawn from warehouse, for consumption during the period January 1, 2018, through December 31, 2018. These entries will remain enjoined pursuant to the terms of the injunction during the pendency of any appeals process.

In the event the CIT's ruling is not appealed, or, if appealed, upheld by a final and conclusive court decision, Commerce intends to instruct CBP to assess countervailing duties on unliquidated entries of subject merchandise produced and/or exported by Hyundai Steel in accordance with 19 CFR 351.212(b). We will instruct CBP to assess countervailing duties on all appropriate entries covered by this review when the ad valorem rate is not zero or de minimis. Where an ad valorem subsidy rate is zero or de minimis,¹¹ we will instruct CBP to liquidate the appropriate entries without regard to countervailing duties.

¹¹ See 19 CFR 351.106(c)(2).

Notification to Interested Parties

This notice is issued and published in accordance with sections 516A(c) and (e) and 777(i)(1) of the Act.

Dated: August 29, 2023.
Lisa W. Wang,
Assistant Secretary for Enforcement and Compliance.

[FR Doc. 2023-19042 Filed 9-1-23; 8:45 am]

BILLING CODE 3510-DS-P